DEPARTMENT OF DEFENSE

Office of the Secretary

[Docket ID: DoD-2025-OS-0021]

Submission for OMB Review; Comment Request

AGENCY: Office of the Under Secretary of Defense for Personnel and Readiness (OUSD(P&R)), Department of Defense (DoD).

ACTION: 30-Day information collection notice.

SUMMARY: The DoD has submitted to OMB for clearance the following proposal for collection of information under the provisions of the Paperwork Reduction Act.

DATES: Consideration will be given to all comments received by October 3, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Reserve Component Spouse Survey; OMB Control Number 0704-0653.

Type of Request: Revision.

Number of Respondents: 17,800.

Responses per Respondent: 1.

Annual Responses: 17,800.

Average Burden per Response: 30 minutes.

Annual Burden Hours: 8,900.

Needs and Uses: The Reserve Component Spouse Survey (RCSS) is the primary source for reliable and generalizable survey data on the effects of military life on military spouses and their families and the effectiveness of current programs and policies. The Office of People Analytics will administer the RCSS to Reserve/National Guard spouses of Army, Navy, Marine Corps, Air Force, and Space Force members who are below flag rank. This scientific survey is designed to enhance understanding of how spouse and family resilience impact force readiness and retention and inform the effectiveness of programs and policies under the purview of DoD's Military Community and Family Policy Department. Without this biennial survey, DoD would not have current data to guide limited resources to the appropriate programs, policies, and services related to reserve component spouses, their families and ultimately Service members.

Affected Public: Individuals or households.

Frequency: Biennially.

Respondent's Obligation: Voluntary.

DOD Clearance Officer: Mr. Reginald Lucas.

Dated: August 29, 2025.
Stephanie J. Bost,
Alternate OSD Federal Register Liaison Officer, Department of Defense.

[FR Doc. 2025-16903 Filed 9-2-25; 8:45 am]

BILLING CODE 6001-FR-P